CONSUMER PRODUCT SAFETY COMMISSION

Privacy Act of 1974; Announcement of System of Records

AGENCY: Consumer Product Safety Commission.

ACTION: Notice of system of records.

SUMMARY: The Consumer Product Safety Commission is publishing notice of a system of records, CPSC-11, for the records generated by our digital access security system.

DATES: Comments must be received on or before September 25, 2001.

ADDRESSES: Comments should be sent to the Secretary, Consumer Product Safety Commission, Washington, DC 20207.

FOR FURTHER INFORMATION CONTACT: Joseph F. Rosenthal, Office of the General Counsel, Consumer Product Safety Commission, Washington, DC 20207. Telephone: (301) 504-0980.

SUPPLEMENTARY INFORMATION: The Commission uses centrally managed electronic locks and elevator controls to control access to various parts of its facilities at different times of the day or different days of the week. The locks can be opened, or elevator call buttons enabled, by passing an appropriate card through a card reader, or by passing a so-called “fob” past an adjacent reader. The cards and fobs, generically referred to as tokens, have internal codes which identify the person to whom they are issued. We issue a token to each employee or contractor who requires access to areas controlled by the locks or elevator call buttons. When the card or fob is used, a central computer grants or denies access based on the privileges associated with the user. The computer also keeps a record of the time and location each time a card or fob is used.

The system of records will become effective September 25, 2001 unless comments are received which justify a contrary determination. The Congress and the Office of Management and Budget have been notified of this system.

Dated: July 23, 2001.
Todd A. Stevenson,
Acting Secretary, Consumer Product Safety Commission.

CPSC-11

System Name:

CPSC-11, Physical Security Records.

System Location:

Directorate for Administration, Consumer Product Safety Commission, 4330 East West Highway, Bethesda, MD 20814.

Categories of Individuals Covered by the System:

Employees, contractors, and other who have received uniquely coded tokens (key cards, key fobs, etc.) to gain access to various parts of Commission facilities.

Categories of Records in the System:

Records which show the time a token has been used; the identity of the token and, therefore, of the person to whom it is assigned; the location at which it has been used; and the access privileges of the person to whom it is assigned.

Authority for Maintenance of the System:

5 U.S.C. 301.

Purpose(s):

These records may be used to investigate breaches of security, theft, vandalism, other property losses, criminal offenses, and employee misconduct.

Routine Uses of records maintained in the system, including categories of users and the purposes of such uses:

These records may be disclosed:

1. To a law enforcement agency when the Commission becomes aware of an indication of a violation of civil or criminal law or regulation to which these records may be pertinent.

2. To the Department of Justice, a court or other tribunal (including an adjudicative or administrative body), or other third-party before such tribunal when the Commission determines that the use of these records by the entity is relevant and necessary to litigation involving the Commission or a Commission employee or former employee.

3. To an employee, an employee's attorney or other representative designated by the employee, when the Commission questions the employee's conduct based at least in part on information from this system of records.

Policies and practices for storing, retrieving, accessing, retaining, and disposing of records in the system:

Storage:

These records are stored in a central computer managed by security services contractor. Printouts are stored in locked file cabinets.

Retrievability:

These records can be retrieved by time period, location(s), the unique identifier of a person's token, or a combination of these.

Safeguards:

These records are kept in a secure computer facility and can be retrieved only by the Commission's Physical Security Manager or designee upon request of a senior Commission official or a law enforcement officer. Printouts are stored in locked file cabinets.

Retention and Disposal:

These records are kept one year from the date of creation.

System Manager(s) and Address:

Physical Security Manager, Directorate for Administration, Consumer Product Safety Commission, Washington, DC 20207.

Notification Procedure:

Freedom of Information/Privacy Act Officer, Office of the Secretary, Consumer Product Safety Commission, Washington, DC 20207.

Record Access Procedures:

Same as notification.

Contesting Record Procedures

Same as notification

Record Source Categories:

These records are automatically generated when a token is passed through or across an electronic reading device.

[FR Doc. 01-18689 Filed 7-26-01; 8:45 am]

BILLING CODE 6355-01-M